OFFICE OF THE UNITED STATES TRADE REPRESENTATIVE

[Docket No. WTO/DS350]

WTO Dispute Settlement Proceeding Regarding Measures Related to Zeroing and Certain Investigations, Administrative Reviews and Sunset Reviews Involving Products From the European Communities; Notice of Opportunity To View Non-Confidential Session of Dispute Settlement Panel's First Meeting With the Parties

AGENCY: Office of the United States Trade Representative.

ACTION: Notice.

SUMMARY: The Office of the United States Trade Representative (“USTR”) is providing notice that members of the public have an opportunity to view the non-confidential session of the substantive meetings of the Panel in the World Trade Organization (“WTO”) dispute United States—Continued Existence and Application of Zeroing Methodology (WT/DS350). Further information about the dispute is available on the USTR Web site (including copies of the submissions filed by the United States at http://www.ustr.gov/Trade_Agreements/Monitoring_Enforcement/Dispute_Settlement/WTO/Dispute_Settlement_Index_-_Pending.html) and on the WTO Web site at http://www.wto.org/english/tratop_e/dispu_e/cases_e/ds350_e.htm. The first meeting is scheduled to begin on November 27, 2007 and the second meeting is scheduled to begin on February 26, 2008. At each session, parties will make their opening statement and may pose questions or make comments on the other party's statement. The Panel may pose any questions or make any comments during the session. The questions and comments will not include, or refer to, business confidential information (“BCI”). To the extent that the Panel or either of the parties considers it necessary, after the public session, the Panel will proceed to a confidential session during which the parties will be allowed to make additional statements or comments and pose questions that involve BCI. Each non-confidential session will be shown via a real-time closed-circuit television broadcast to a separate viewing room. The public viewing will be held at the World Trade Organization, Centre William Rappard, Rue de Lausanne 154, CH-1211 Geneva 21, Switzerland.

USTR invites any person interested in viewing the non-confidential session to so inform USTR by e-mail at rsvp-DS350@ustr.eop.gov. USTR urges that the request be made as soon as possible and in any event no later than November 16, 2007 for the first meeting and February 13, 2008 for the second meeting. Requests will be forwarded to the WTO. Each request should indicate the person's full name, contact information (full address, phone, and e-mail), organization (if any), and nationality, and whether the person has made any other request to view the session (such as a request directly to the WTO or to the other party to the dispute, the European Communities).

FOR FURTHER INFORMATION CONTACT: Ronald J. Baumgarten, Jr., Assistant General Counsel, Office of the United States Trade Representative, 600 17th Street, NW., Washington, DC 20508, (202) 395-9583.

Daniel E. Brinza,
Assistant United States Trade Representative for Monitoring and Enforcement.

[FR Doc. E7-21331 Filed 10-29-07; 8:45 am]

BILLING CODE 3190-W8-P